DEPARTMENT OF ENERGY

Federal Energy Regulatory Commission

[Docket No. RP03-243-001]

Columbia Gas Transmission Corporation; Notice of Compliance Filing

July 16, 2003.

Take notice that on July 11, 2003, Columbia Gas Transmission Corporation (Columbia) tendered for filing as part of its FERC Gas Tariff, Second Revised Volume No. 1, the following revised tariff sheets, with a proposed effective date of August 15, 2003:

Fourth Revised Sheet No. 320

Second Revised Sheet No. 410

Second Revised Sheet No. 413

Second Revised Sheet No. 415

Second Revised Sheet No. 416

Columbia states that it is making this filing in compliance with an order issued on June 11, 2003 by the Commission in Nicole Gas Production Ltd. in Docket No. RP03-243 (103 FERC ¶ 61,328 (2003)). The tariff sheets in the instant filing are being filed to clarify obligations with respect to the construction and installation of meters and measuring stations and to clarify objections with respect to the responsibility for payment of the cost of the construction and installation of those facilities. Columbia is also adding tariff language that addresses the methodology for determining quantities of gas deliveries when no there is no meter.

Columbia states that copies of its filing have been mailed to all firm customers, interruptible customers and affected state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 23, 2003.

Magalie R. Salas,
Secretary.

[FR Doc. 03-18666 Filed 7-21-03; 8:45 am]

BILLING CODE 6717-01-P